DEPARTMENT OF THE TREASURY

Internal Revenue Service

26 CFR Part 1

[TD 9164]

RIN 1545-BC33

Prohibited Allocations of Securities in an S Corporation; Correction

AGENCY: Internal Revenue Service (IRS), Treasury.

ACTION: Correcting amendment.

SUMMARY: This document corrects temporary regulations (TD 9164) that were published in the Federal Register on Friday, December 17, 2004 (69 FR 75455) concerning requirements for employee stock ownership plans (ESOPs) holding stock of Subchapter S corporations.

DATES: This document is effective on December 17, 2004.

FOR FURTHER INFORMATION CONTACT: John T. Ricotta, (202) 622-6060 (not a toll-free number).

SUPPLEMENTARY INFORMATION:

Background

The temporary regulations (TD 9164) that is the subject of this correction are under section 409(p).

Need for Correction

As published, the temporary regulations (TD 9164) contain errors that may prove to be misleading and are in need of clarification.

List of Subjects in 26 CFR Parts 1

Income Taxes, Reporting and recordkeeping requirements.

Correction of Publication

Accordingly, 26 CFR part 1 is corrected by making the following correcting amendment:

PART 1—INCOME TAXES

Paragraph 1. The authority citation for part 1 and continues to read in part as follows:

Authority: 26 U.S.C. 7805 * * *.

§ 1.409(p)-1T [Corrected]

Section 1.409(p)-1T(d)(2)(iv), is removed.

Cynthia E. Grigsby,
Acting Chief, Publications and Regulations Branch, Legal Processing Division, Associate Chief Counsel (Procedures and Administration).

[FR Doc. 05-4506 Filed 3-7-05; 8:45 am]

BILLING CODE 4830-01-P